ENVIRONMENTAL PROTECTION AGENCY

40 CFR Parts 85, 86, 600, 1036, 1037 and 1039

[EPA-HQ-OAR-2025-0194; FRL-12715-03-OAR]

Reconsideration of 2009 Endangerment Finding and Greenhouse Gas Vehicle Standards; Extension of Comment Period

AGENCY: Environmental Protection Agency (EPA).

ACTION: Notification; extension of public comment period.

SUMMARY: On August 1, 2025, the Environmental Protection Agency (EPA) published a proposed rule titled “Reconsideration of 2009 Endangerment Finding and Greenhouse Gas Vehicle Standards.” EPA is extending the comment period for this proposed rule.

DATES: The comment period for the proposed rule published on August 1, 2025, at 90 FR 36288, is extended. Comments must be received on or before September 22, 2025.

ADDRESSES: You may send your comments, identified by Docket ID No. EPA-HQ-OAR-2025-0194, by any of the following methods:

• Federal eRulemaking Portal: http://www.regulations.gov (our preferred method) Follow the online instructions for submitting comments.

• Email: a-and-r-Docket@epa.gov. Include Docket ID No. EPA-HQ-OAR-2025-0194 in the subject line of the message.

• Mail: U.S. Environmental Protection Agency, EPA Docket Center, Office of Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday—Friday (except Federal Holidays).

Instructions. Submit your comments, identified by Docket ID No. EPA-HQ-OAR-2025-0194, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. If you choose to submit CBI or PBI as a comment to the EPA's docket, please send those materials to the person listed in the FOR FURTHER INFORMATION CONTACT section. Multimedia submissions (audio, video, etc.) must be accompanied by a written comment. The written comment is considered an official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

FOR FURTHER INFORMATION CONTACT: Alan Stout, Assessment and Standards Division, Office of Transportation and Air Quality, Environmental Protection Agency, 2000 Traverwood Drive, Ann Arbor, MI 48105; telephone number: (734) 214-4805; email address: stout.alan@epa.gov.

SUPPLEMENTARY INFORMATION: On August 1, 2025, EPA published a proposed rule titled “Reconsideration of 2009 Endangerment Finding and Greenhouse Gas Vehicle Standards” (90 FR 36288). The public comment for this proposed rule was scheduled to end on September 15, 2025. The public hearing on this rule is scheduled for August 19, 20, and 21, 2025. In EPA's Federal Register notice announcing the public hearing (90 FR 36125), EPA stated the agency would hold the public hearing on August 19 and 20, and EPA would consider adding a third day, August 21, if needed. EPA has now decided to add a third day (August 21, 2025) and is considering adding a fourth day (August 22, 2025). The Clean Air Act requires that the record of proceedings allowing oral presentation of data, views, and arguments on a proposed rule be kept open for 30 days after completion of the proceeding to provide an opportunity for submission of rebuttal and supplementary information. 42 U.S.C. 7607(d)(5). Because EPA plans to hold a third of public hearing for this proposed rule, and is considering adding a fourth day, the final “proceeding allowing oral presentation of data, views, and arguments,” will be held on August 21, 2025, and potentially on August 22, 2025. For this reason, the public comment period for this proposed rule is extended and will now end on September 22, 2025.

William Charmley,
Director, Assessment and Standards Division, Office of Transportation and Air Quality.

[FR Doc. 2025-15512 Filed 8-14-25; 8:45 am]

BILLING CODE 6560-50-P